FEDERAL RESERVE SYSTEM

12 CFR Part 202

[Regulation B; Docket No. R-1251]

Equal Credit Opportunity

AGENCY: Board of Governors of the Federal Reserve System.

ACTION: Final Rule; Technical amendments.

SUMMARY: The Board is publishing technical amendments to Regulation B (Equal Credit Opportunity Act) to update the addresses of certain federal enforcement agencies.

dates: Effective Date: March 7, 2006.

FOR FURTHER INFORMATION CONTACT: Minh-Duc T. Le, Senior Attorney, Division of Consumer and Community Affairs, Board of Governors of the Federal Reserve System, at (202) 452-3667. For the users of Telecommunications Device for the Deaf (“TDD”) only, contact (202) 263-4869.

SUPPLEMENTARY INFORMATION: The Equal Credit Opportunity Act (ECOA), 15 U.S.C. 1691-1691f, makes it unlawful for a creditor to discriminate against an applicant in any aspect of a credit transaction on the basis of the applicant's national origin, marital status, religion, sex, color, race, age (provided the applicant has the capacity to contract), receipt of public assistance benefits, or the good faith exercise of a right under the Consumer Credit Protection Act, 15 U.S.C. 1601 et seq. The ECOA is implemented by the Board's Regulation B.

In addition to the general prohibition against discrimination, Regulation B contains specific rules concerning the taking and evaluation of credit applications, including procedures and notices for credit denials and other adverse action. Under section 202.9 of Regulation B, notification given to an applicant when adverse action is taken must contain the name and address of the federal agency that administers compliance with respect to the creditor. The federal agencies' names and addresses are listed in Appendix A of Regulation B. This technical amendment updates the addresses of the Office of the Comptroller of the Currency and the United States Small Business Administration.

12 CFR Chapter II

List of Subjects in 12 CFR Part 202

Aged, Banks, banking, Civil rights, Consumer protections, Credit, Discrimination, Federal Reserve System, Marital status discrimination, Penalties, Religious discrimination, Sex discrimination.

Authority and Issuance

For the reasons set forth in the preamble, the Board amends 12 CFR part 202 to read as follows:

PART 202—EQUAL CREDIT OPPORTUNITY ACT (REGULATION B)

1. The authority citation for part 202 continues to read as follows:

Authority: 15 U.S.C. 1691-1691f.

2. Appendix A is amended by revising the following Federal Enforcement Agencies addresses to read as follows:

APPENDIX A TO PART 202—FEDERAL ENFORCEMENT AGENCIES

* * * * *

National Banks, and Federal Branches and Federal Agencies of Foreign Banks: Office of the Comptroller of the Currency, Customer Assistance Group, 1301 McKinney Avenue, Suite 3450, Houston, TX 77010.

* * * * *

Small Business Investment Companies: Associate Deputy Administrator for Capital Access, United States Small Business Administration, 409 Third Street, SW., 8th Floor, Washington, DC 20416.

* * * * *

By order of the Board of Governors of the Federal Reserve System, acting through the Secretary of the Board under delegated authority, March 1, 2006.
Jennifer J. Johnson,
Secretary of the Board.

[FR Doc. 06-2123 Filed 3-6-06; 8:45 am]

BILLING CODE 6210-01-P